DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska American Fisheries Act (AFA) Reports.

OMB Control Number: 0648-0401.

Form Number(s): None.

Type of Request: Regular (extension of a currently approved information collection).

Number of Respondents: 8.

Average Hours per Response: AFA cooperative contract, 8 hours; annual cooperative report, 16 hours; inshore cooperative weekly catch report, 45 minutes; incentive plan agreement (IPA) amendment, 50 hours; incentive plan agreement disapproval appeals, 4 hours; IPA annual report, 80 hours.

Burden Hours: 599.

Needs and Uses: On October 21, 1998, the President signed into law The American Fisheries Act, 16 U.S.C. 1851 (AFA). The AFA authorizes the formation of fishery cooperatives in all sectors of the Bering Sea and Aleutian Islands Management Area (BSAI) pollock fishery, grants antitrust exemptions to cooperatives in the mothership sector, and imposes operational limits on fishery cooperatives in the BSAI pollock fishery. The National Marine Fisheries Service (NMFS) issues a single pollock allocation to each cooperative, and the cooperative may make sub-allocations of pollock to each individual vessel owner in the cooperative.

With respect to the fisheries off Alaska, the AFA Program is a suite of management measures that fall into four general regulatory categories:

• Limit access into the fishing and processing sectors of the BSAI pollock fishery and that allocate pollock to such sectors (50 CFR 679.64).

• Govern the formation and operation of fishery cooperatives in the BSAI pollock fishery, including filing of cooperative contracts (50 CFR 679.61 and 679.62).

• Protection of other fisheries from spillover effects from the AFA (50 CFR 679.64).

• Govern catch measurement and monitoring in the BSAI pollock fishery, including filing of annual reports and completing and submitting inshore catcher vessel pollock cooperative catch reports (50 CFR 679.63).

Affected Public: Business or other for-profit organizations.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 11, 2018.
Sarah Brabson,
NOAA PRA Clearance Officer.

[FR Doc. 2018-00691 Filed 1-16-18; 8:45 am]

BILLING CODE 3510-22-P